DEPARTMENT OF COMMERCE

International Trade Administration

Environmental Technologies Trade Advisory Committee (ETTAC), Extension of Time To Submit Nominations

AGENCY: International Trade Administration, DOC.

ACTION: Solicitation of Nominations for Membership to the Environmental Technologies Trade Advisory Committee.

SUMMARY: This notice extends until November 14, 2014, the time period for submission of nominations for membership to the Environmental Technologies Trade Advisory Committee (ETTAC or Committee). The original notice soliciting nominations was published on September 5, 2014 (79 FR 53017). ETTAC was established pursuant to Title IV of the Jobs Through Trade Expansion Act, 22 U.S.C. 2151, and under the Federal Advisory Committee Act, 5 U.S.C. App. 2. ETTAC was first chartered on May 31, 1994. ETTAC serves as an advisory body to the Environmental Trade Working Group of the Trade Promotion Coordinating Committee (TPCC), reporting directly to the Secretary of Commerce (Secretary) in his/her capacity as Chair of the TPCC. ETTAC advises on the development and administration of programs to expand U.S. exports of environmental technologies, goods, and services.

DATES: Nominations for membership must be received on or before November 14, 2014.

ADDRESSES: Please send nominations by post, email, or fax to the attention of Maureen Hinman, Designated Federal Officer/ETTAC, Office of Energy & Environmental Industries, International Trade Administration, U.S. Department of Commerce, 1401 Constitution Avenue NW., Room 4053, Washington, DC 20230; phone 202-482-0627; or email maureen.hinman@trade.gov; fax 202-482-5665. Electronic responses should be submitted in Microsoft Word format.

Nominations: The Secretary invites nominations for membership to ETTAC, which consists of approximately 35 members appointed by the Secretary, in accordance with applicable Department of Commerce guidance and based on their ability to carry out the objectives of the Committee. Members represent U.S. exporters of environmental technologies, products and services; reflect the diversity of this sector, including in terms of company size and geographic location; and are drawn from U.S. environmental technologies manufacturing and services companies, U.S. trade associations, and U.S. private sector organizations involved in the promotion of exports of environmental technologies, products and services.

Membership in a committee operating under the Federal Advisory Committee Act must be balanced in terms of economic subsector, geographic location, and company size. Committee members serve in a representative capacity and must be able to generally represent the views and interests of a certain subsector of the U.S. environmental industry; they are, therefore, not Special Government Employees.

Each member of the Committee must be a U.S. citizen, and not registered as a foreign agent under the Foreign Agents Registration Act. No member may represent a company that is majority-owned or controlled by a foreign government entity or foreign government entities. Companies must be at least 51 percent owned by U.S. persons. Candidates should be senior executive-level representatives from environmental technology companies, trade associations, and U.S. private-sector organizations involved in the promotion of exports of environmental technologies, products and services. Members of the ETTAC should have experience in the exportation of one or more environmental technologies, goods and/or services, including:

(1) Air pollution control and monitoring technologies;

(2) Analytic devices and services;

(3) Environmental engineering and consulting services;

(4) Financial services relevant to the environmental sector;

(5) Process and pollution prevention technologies;

(6) Solid and hazardous waste management technologies; and/or

(7) Water and wastewater treatment technologies.

The Secretary will appoint at least one individual representing each of the following:

a. Environmental businesses, including small businesses;

b. Trade associations in the environmental sector;

c. Private sector organizations involved in the promotion of environmental exports, including products that comply with U.S. environmental, safety, and related requirements;

d. States (as defined in 15 U.S.C. 4721(j)(5)) and associations representing the States; and

e. Other appropriate interested members of the public, including labor representatives.

Nominees will be evaluated based upon their ability to carry out the objectives of the Committee. ETTAC's current Charter is available at http://www.environment.ita.doc.gov under the tab: Advisory Committee. Appointments will be made to create a balanced Committee in terms of subsector representation, product lines, firm size, geographic area, and other criteria.

All appointments are made without regard to political affiliation. Members shall serve at the pleasure of the Secretary from the date of appointment to the Committee to the date on which the Committee's charter terminates (normally two years).

For each nominee, please provide the following information (2 pages maximum):

(1) Name

(2) Title

(3) Work phone; fax; and email address

(4) Organization name and address, including Web site address

(5) Short biography of nominee, including credentials and proof of U.S. citizenship (copy of birth certificate and/or U.S. passport) and a list of citizenships of foreign countries

(6) Brief description of the organization and its business activities, including

(7) Company size (number of employees and annual sales)

(8) Exporting experience

(9) An affirmative statement that the nominee will be able to meet the expected time commitments of Committee work. Committee work includes (1) attending in-person committee meetings approximately four times per year, (2) undertaking additional work outside of full committee meetings including subcommittee conference calls or meetings as needed, and (3) drafting or commenting on proposed recommendations to be evaluated at Committee meetings.

Please do not send company or trade association brochures or any other information.

FOR FURTHER INFORMATION CONTACT: Ms. Maureen Hinman, Office of Energy & Environmental Industries (OEEI), International Trade Administration, Room 4053, 1401 Constitution Avenue NW., Washington, DC 20230. (Phone: 202-482-0627; Fax: 202-482-5665; or email: maureen.hinman@trade.gov).

Dated: October 22, 2014.
Catherine P. Vial,
Team Leader, Environmental Industries.

[FR Doc. 2014-25559 Filed 10-27-14; 8:45 am]

BILLING CODE 3510-DR-P